DEPARTMENT OF THE TREASURY

Office of Foreign Assets Control

Sanctions Action Pursuant to Executive Order 13726 of April 19, 2016, “Blocking Property and Suspending Entry into the United States of Persons Contributing to the Situation in Libya.”

AGENCY: Office of Foreign Assets Control, Treasury.

ACTION: Notice.

SUMMARY: The U.S. Department of the Treasury's Office of Foreign Assets Control (OFAC) is publishing the name of one individual whose property and interests in property are blocked pursuant to Executive Order 13726 of April 19, 2016, “Blocking Property and Suspending Entry into the United States of Persons Contributing to the Situation in Libya,” and whose name has been added to OFAC's list of Specially Designated Nationals and Blocked Persons (SDN List).

DATES: OFAC's actions described in this notice were effective May 13, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On May 13, 2016, OFAC blocked the property and interests in property of the following individual pursuant to Executive Order 13726 of April 19, 2016, “Blocking Property and Suspending Entry into the United States of Persons Contributing to the Situation in Libya:”

ESSA, Agila Saleh (a.k.a. GWAIDER, Ageela Salah Issa; a.k.a. GWAIDER, Agila Saleh Issa; a.k.a. ISSA, Aguila Saleh; a.k.a. QUYDIR, Aqilah Salih; a.k.a. SALEH, Aqilah); DOB 01 Jun 1942; POB Elgubba, Libya; nationality Libya; Passport D001001 (Libya) issued 22 Jan 2015 expires 22 Jan 2017; President and Speaker of the Libyan House of Representatives (individual) [LIBYA3].

Dated: May 13, 2016.
Andrea M. Gacki,
Acting Director, Office of Foreign Assets Control.

[FR Doc. 2016-11697 Filed 5-17-16; 8:45 am]

BILLING CODE 4810-AL-P